DEPARTMENT OF AGRICULTURE

Animal and Plant Health Inspection Service

7 CFR Part 301

[Docket No. 00-077-2]

Asian Longhorned Beetle; Addition to Quarantined Areas

AGENCY: Animal and Plant Health Inspection Service, USDA.

ACTION: Affirmation of interim rule as final rule.

SUMMARY: We are adopting as a final rule, without change, an interim rule that amended the Asian longhorned beetle regulations by expanding the quarantined areas in the city of New York and in Nassau and Suffolk Counties, NY. As a result the interim rule, the interstate movement of regulated articles from those areas is restricted. The interim rule was necessary to prevent the artificial spread of the Asian longhorned beetle to noninfested areas of the United States.

EFFECTIVE DATE: The interim rule became effective on September 6, 2000.

FOR FURTHER INFORMATION CONTACT: Mr. Michael B. Stefan, Staff Officer, Invasive Species and Pest Management Staff, PPQ, APHIS, 4700 River Road Unit 134, Riverdale, MD 20737-1231; (301) 734-7338.

SUPPLEMENTARY INFORMATION:

Background

In an interim rule effective September 6, 2000, and published in the Federal Register on September 12, 2000 (65 FR 54943-54945, Docket No. 00-077-1), we amended the Asian longhorned beetle regulations contained in 7 CFR 301.51-1 through 301.51-9 by adding new areas in the city of New York and in Nassau and Suffolk Counties, NY, to the list of quarantined areas in § 301.51-3. That action restricted the interstate movement of regulated articles from those areas.

Comments on the interim rule were required to be received on or before November 13, 2000. We did not receive any comments. Therefore, for the reasons given in the interim rule, we are adopting the interim rule as a final rule.

This action also affirms the information contained in the interim rule concerning Executive Orders 12866, 12372, and 12988 and the Paperwork Reduction Act.

Further, for this action, the Office of Management and Budget has waived the review process required by Executive Order 12866.

Regulatory Flexibility Act

This rule affirms an interim rule that amended the Asian longhorned beetle regulations by expanding the quarantined areas in the city of New York and in Nassau and Suffolk Counties, NY. As a result of that action, the interstate movement of regulated articles from those areas is restricted.

The following analysis addresses the economic effects of the interim rule on small entities, as required by the Regulatory Flexibility Act. The small businesses potentially affected by the interim rule are nurseries, arborists, tree removal services, and firewood dealers located within the quarantined areas. The actual number of such businesses in the quarantined areas added by the interim rule is unknown. However, we anticipate that the number of such businesses is small since the newly quarantined areas are urban and suburban communities as opposed to rural farm areas.

It is further estimated that the number and value of regulated articles that would, upon inspection, be determined to be infested, and therefore denied a certificate or a limited permit for movement, is small. Current data from the Animal and Plant Health Inspection Service (APHIS) Asian longhorned beetle project being conducted in Amityville, NY, support this conclusion.

Finally, the regulations allow businesses to chemically treat, fumigate, or process by chipping or burning all regulated articles before they are presented for APHIS inspection. It is likely that, given their low value relative to the cost of treatment, most regulated articles would not undergo such treatment.

Under these circumstances, the Administrator of APHIS has determined that this action will not have a significant economic impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 65 FR 54943-54945 on September 12, 2000.

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

Done in Washington, DC, this 2nd day of August 2001.
Bobby R. Acord,
Acting Administrator, Animal and Plant Health Inspection Service.

[FR Doc. 01-19826 Filed 8-7-01; 8:45 am]

BILLING CODE 3410-34-U